DEPARTMENT OF ENERGY

Federal Energy Regulatory Commission

[Project No. 8722-018]

David O. Harde; Notice of Termination of License (Minor Project) by Implied Surrender and Soliciting Comments, Protests and Motions To Intervene

Take notice that the following hydroelectric proceeding has been initiated by the Commission:

a. Type of Proceeding: Termination of License by Implied Surrender.

b. Project No.: 8722-018.

c. Date Initiated: December 11, 2015.

d. Licensee: David O. Harde.

e. Name and Location of Project: Landis-Harde Hydroelectric Project located on Perry Creek, in El Dorado County, California.

f. Filed Pursuant to: Standard Article 16.

g. Licensee Contact Information: Mr. David O. Harde, 6540 Perry Creek Road, Somerset, California 95684, Phone: (530) 620-5629.

h. FERC Contact: Mr. Ashish Desai, (202) 502-8370, Ashish.Desai@ferc.gov.

i. Deadline for filing comments, motions to intervene and protests, is 30 days from the issuance date of this notice. The Commission strongly encourages electronic filing. Please file motions to intervene, protests, comments, and recommendations, using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-8722-018.

j. Description of Project Facilities: (1) A 4-foot-high, 42-foot-long reinforced concrete dam; (2) a 24-inch-diameter, 1,000-foot-long penstock; (3) a powerhouse containing a single generating unit with a rated capacity of 100 kW; and (4) a 500-foot-long tap connecting the project with an existing Pacific Gas and Electric Company 21-kv transmission line west of the powerhouse.

k. Description of Proceeding: The licensee is in violation of standard Article 16 of its license, issued on April 27, 1990 (51 FERC ¶ 61,088). Article 16 states in part: If the Licensee shall abandon or discontinue good faith operation of the project or refuse or neglect to comply with the terms of the license and the lawful orders of the Commission mailed to the record address of the Licensee or its agent, the Commission will deem it to be the intent of the Licensee to surrender the license.

Commission records indicate that the project has not been operational since 2006 when the licensee determined, that the project was no longer financially viable due to low water flows and high insurance rates. After several years of correspondence regarding transferring the license to a third party and resuming project operation, the licensee has become non-responsive. Most recently, by letter dated September 1, 2015, the licensee informed the Commission of its intent to file a license transfer application shortly thereafter. The licensee did not file a transfer application. By letter dated September 4, 2015, Commission staff requested the licensee file documentation regarding the non-operational status of the project within 30 days. The licensee did not file the requested information. By letter dated October 27, 2015, the Commission ordered the licensee to file a plan and schedule to resume project operations or a transfer application within 30 days, and failure to do so would result in termination of the project license by implied surrender. The licensee has not filed a response.

l. This notice is available for review and reproduction at the Commission in the Public Reference Room, Room 2A, 888 First Street NE., Washington, DC 20426. The filing may also be viewed on the Commission's Web site at http://www.ferc.gov/docs-filing/elibrary.asp. Enter the Docket number (P-8722-018) excluding the last three digits in the docket number field to access the notice. You may also register online at http://www.ferc.gov/docs-filing/esubscription.asp to be notified via email of new filings and issuances related to this or other pending projects. For assistance, call toll-free 1-866-208-3676 or email FERCOnlineSupport@ferc.gov. For TTY, call (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the license surrender. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: December 11, 2015.
Nathaniel J. Davis, Sr.,
Deputy Secretary.

[FR Doc. 2015-31722 Filed 12-16-15; 8:45 am]

BILLING CODE 6717-01-P